ENVIRONMENTAL PROTECTION AGENCY

40 CFR Part 52

[OK-14-1-7367; FRL-6727-1]

Approval and Promulgation of Implementation Plans; Oklahoma; Revised Format for Materials Being Incorporated by Reference

AGENCY: Environmental Protection Agency (EPA).

ACTION: Final rule; notice of administrative change.

SUMMARY: The EPA is revising the format 40 CFR part 52, subpart LL, for materials submitted by Oklahoma that are incorporated by reference (IBR) into the Oklahoma State Implementation Plan (SIP). The regulations affected by this format change have all been previously submitted by the respective State agency and approved by EPA.

EFFECTIVE DATE: This action is effective August 2, 2000.

ADDRESSES: The SIP materials which are incorporated by reference into 40 CFR part 52 are available for inspection at the following locations:

Environmental Protection Agency, Region 6, Air Planning Section (6PD-L), 1445 Ross Avenue, Suite 700, Dallas, Texas 75202-2733.

Air and Radiation Docket (6102A), Room M1500, U.S. Environmental Protection Agency, Ariel Rios Building, 1200 Pennsylvania Avenue, NW., Washington DC 20460.

Office of the Federal Register, 800 North Capitol Street, NW, Suite 700, Washington, DC.

The current Oklahoma SIP-approved regulations listed in table (c) in the rulemaking section of this action are available for public inspection by selecting “Oklahoma” at the following web site: http://www.epa.gov/earth1r6/6pd/air/sip/sip.htm (Must be all lower case). You can also get to this address via the EPA home page (http://www.epa.gov/) by selecting in order: Offices, Labs & Regions; Regions; Region 6; Air Programs; State Implementation Plans (SIP); SIP regulations; and selecting “Oklahoma” from the list of Region 6 States.

FOR FURTHER INFORMATION CONTACT: Bill Deese, Air Planning Section (6PD-L) at the Region 6 address or at (214) 665-7253.

SUPPLEMENTARY INFORMATION:

I. Background

Each State is required by section 110(a)(1) of the Federal Clean Air Act (the Act), to have a SIP that contains the control measures and strategies which will be used to attain and maintain the national ambient air quality standards. The SIP is extensive, containing such elements as emission inventories, monitoring network, attainment demonstrations, and enforcement mechanisms. The control measures and strategies must be formally adopted by each State after the public has had an opportunity to comment on them. They are then submitted to EPA as SIP revisions on which EPA must formally act.

Once these control measures are approved by EPA pursuant to section 110(k) of the Act, after notice and comment, they are incorporated into the SIP and are identified in part 52 (Approval and Promulgation of Implementation Plans) of 40 CFR. The actual State regulations which are approved by EPA are not reproduced in their entirety in 40 CFR part 52, but are “incorporated by reference,” which means that the citation of a given State regulation with a specific effective date has been approved by EPA. This format allows both EPA and the public to know which measures are contained in a given SIP and ensures that the State is enforcing the regulations. It also allows EPA to take enforcement action or the public to bring citizen suits, should a State not enforce its SIP-approved regulations.

The SIP is an active or changing document which can be revised by the State as necessary to address the unique air pollution problems in the State as long as changes are not contrary to Federal law. Therefore, EPA, from time to time, must take action to incorporate into the SIP, revisions of the State program which may contain new and/or revised regulations. Regulations approved into the SIP are then incorporated by reference into part 52. Pursuant to section 110(h)(1) of the Act and as a result of consultations between EPA and the Office of Federal Register, EPA revised the procedures May 22, 1997 (62 FR 27968), for incorporating by reference federally-approved SIPs and began the process of developing: (1) a revised SIP document for each State that would be incorporated by reference under the provisions of 1 CFR part 51, (2) a revised mechanism for announcing EPA approval of revisions to an applicable SIP and updating both the IBR document and the CFR, and (3) a revised format of the “Identification of plan” sections for each applicable subpart to reflect these revised IBR procedures. The description of the revised SIP document, IBR procedures and “Identification of plan” format are discussed in further detail in the May 22, 1997, Federal Register document.

II. Content of Revised IBR Document

The new SIP compilations contain the federally-approved portion of State regulations and source specific permits submitted by each State agency. These regulations and source-specific permits have all been approved by EPA through previous rulemaking actions in the Federal Register. The SIP compilations are stored in 3-ring binders and will be updated primarily on an annual basis.

If no significant changes are made for any State to the SIP during the year, an update will not be made during that year. If significant changes occur during the year, an update could be done on a more frequent basis, as applicable. Typically, only the revised sections of the compilation will be updated. Complete resubmittals of a State SIP compilation will be done on an as-needed basis.

Each compilation contains two parts. Part 1 contains the regulations and Part 2 contains the source-specific permits that have been approved as part of the SIP. Each part has a table of contents identifying each regulation or each source specific permit. The table of contents in the compilation corresponds to the table of contents published in 40 CFR part 52 for these States. The EPA Regional offices have the primary responsibility for ensuring accuracy and updating the compilations. The Region 6 EPA Office developed and will maintain the compilations for Oklahoma. A copy of the full text of the State's current SIP-approved regulations will also be maintained at the Office of the Federal Register and EPA's Air Docket and Information Center in Washington, DC. The EPA is phasing in the SIP compilations for individual States. This revised format is consistent with the SIP compilation requirements of section 110(h)(1) of the Act.

III. Revised Format of the “Identification of plan” Sections in Each Subpart

In order to better serve the public, EPA is revising the organization of the “Identification of plan” section of 40 CFR section 52.1920. The EPA is including additional information which will more clearly identify the provisions that constitute the enforceable elements of the SIP.

The revised “Identification of plan” section will contain five subsections: (a) Purpose and scope; (b) Incorporation by reference; (c) EPA approved regulations; (d) EPA approved source-specific permits; and (e) EPA approved nonregulatory provisions, such as transportation control measures, statutory provisions, control strategies, monitoring networks, etc.

IV. Enforceability and Legal Effect

This change to the procedures for incorporation by reference announced today will not alter in any way the enforceability or legal effect of approved SIP materials, including both those approved in the past or to be approved in the future. As of the effective date of the final rule approving a SIP revision, all provisions identified in the Federal Register document announcing the SIP approval will be federally enforceable, both by EPA under section 113 of the Act and by citizens under section 304 of the Act, where applicable. All revisions to the applicable SIP are federally enforceable as of the effective date of EPA approval even if they have not yet been incorporated by reference. To facilitate enforcement of previously approved SIP provisions and provide a smooth transition to the new SIP processing system, EPA is retaining the original “Identification of Plan” section, previously appearing in the CFR as the first or second section of part 52 for each State subpart.

V. Notice of Administrative Change

Today's action constitutes a “housekeeping” exercise to ensure that federally approved State plans are accurately reflected in 40 CFR part 52. State SIP revisions are controlled by EPA Regulations at 40 CFR part 51. When EPA receives a formal SIP revision request, the Agency must publish the proposed revision in the Federal Register and provide for public comment before approval.

The EPA has determined that today's rule falls under the “Good Cause” exemption in section 553(b)(3)(B) of the Administrative Procedures Act (APA) which, upon finding good cause, authorizes agencies to dispense with public participation and section 553(d)(3) which allows an agency to make a rule effective immediately (thereby avoiding the 30-day delayed effective date otherwise provided for in the APA). Today's rule simply codifies provisions which are already in effect as a matter of law in Federal and approved State programs.

Under section 553 of the APA, an agency may find good cause where procedures are “impractical, unnecessary, or contrary to the public interest.” Public comment is unnecessary since the codification only reflects existing law. Immediate revision to the CFR benefits the public by removing outdated citations.

VI. Administrative Requirements

A. Executive Order 12866

The Office of Management and Budget (OMB) has exempted this regulatory action from Executive Order 12866, entitled “Regulatory Planning and Review.”

B. Executive Order 13132

Executive 13132, entitled “Federalism” (64 FR 43255, August 10, 1999) revokes and replaces Executive Order 12612, “Federalism,” and Executive Order 12875, “Enhancing the Intergovernmental Partnership.” Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. The EPA also may not issue a regulation that has federalism implications and that preempts State law unless the Agency consults with State and local officials early in the process of developing the proposed regulation.

This final rule will not have substantial direct effects on the States, on the relationship between the national government and the States, or on the distribution of power and responsibilities among the various levels of government, as specified in Executive Order 13132, because it merely approves a State rule implementing a Federal standard, and does not alter the relationship or the distribution of power and responsibilities established in the Act. Thus, the requirements of section 6 of the Executive Order do not apply to this rule.

C. Executive Order 13045

Executive Order 13045, entitled “Protection of Children from Environmental Health Risks and Safety Risks” (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Order has the potential to influence the regulation. This final rule is not subject to Executive Order 13045 because it approves a State program.

D. Executive Order 13084

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian tribes. Accordingly, the requirements of section 3(b) of Executive Order 13084 do not apply to this rule.

E. Regulatory Flexibility Act

The Regulatory Flexibility Act, 5 U.S.C. 600 et seq., generally requires an agency to conduct a regulatory flexibility analysis of any rule subject to notice and comment rulemaking requirements unless the agency certifies that the rule will not have a significant economic impact on a substantial number of small entities. Small entities include small businesses, small not-for-profit enterprises, and small governmental jurisdictions. This final rule will not have a significant impact on a substantial number of small entities because SIP approvals under section 110 and subchapter I, part D of the Act do not create any new requirements but simply approve requirements that the State is already imposing. Therefore, because the Federal SIP approval does not create any new requirements, I certify that this action will not have a significant economic impact on a substantial number of small entities. Moreover, due to the nature of the Federal-State relationship under the Act, preparation of a flexibility analysis would constitute Federal inquiry into the economic reasonableness of state action. The Act forbids EPA to base its actions concerning SIPs on such grounds. See Union Electric Co., v. U.S. EPA, 427 U.S. 246, 255-66 (1976); 42 U.S.C. 7410(a)(2).

F. Unfunded Mandates

Under section 202 of the Unfunded Mandates Reform Act of 1995, signed into law on March 22, 1995, EPA must prepare a budgetary impact statement to accompany any proposed or final rule that includes a Federal mandate that may result in estimated annual costs to State, local, or tribal governments in the aggregate; or to private sector, of $100 million or more. Under section 205, EPA must select the most cost-effective and least burdensome alternative that achieves the objectives of the rule and is consistent with statutory requirements. Section 203 requires EPA to establish a plan for informing and advising any small governments that may be significantly or uniquely impacted by the rule.

The EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule can not take effect until 60 days after it is published in the Federal Register. This action is not a “major” rule as defined by 5 U.S.C. 804(2). This rule is effective August 2, 2000.

H. Petitions for Judicial Review

The EPA has determined that the provisions of section 307(b)(1) of the Clean Air Act pertaining to petitions for judicial review are not applicable to this action. Prior EPA rulemaking actions approving each individual component of Oklahoma SIP compilations had previously afforded interested parties the opportunity to file a petition for judicial review in the United States Court of Appeals for the appropriate circuit within 60 days of such rulemaking action. Thus, EPA sees no need in this action to reopen the 60-day period for filing such petitions for judicial review for this “Identification of plan” reorganization action for Oklahoma.

List of Subjects in 40 CFR Part 52

Environmental protection, Air pollution control, Carbon Monoxide, Hydrocarbons, Incorporation by reference, Intergovernmental relations, Lead, Nitrogen oxides, Ozone, Particulate matter, Reporting and recordkeeping requirements, Sulfur oxides, Volatile organic compounds.

Dated: June 19, 2000.
Carl E. Edlund,
Acting Regional Administrator, Region 6.

Part 52 of chapter I, title 40, Code of Federal Regulations, is amended as follows:

PART 52—[AMENDED]

1. The authority citation for part 52 continues to read as follows:

Authority: 42 U.S.C. 7401 et seq.

Subpart LL—Oklahoma

2. Section 52.1920 is redesignated as § 52.1960 and the section heading and paragraph (a) are revised to read as follows:

§ 52.1960 Original Identification of plan section.

(a) This section identifies the original “State of Oklahoma Air Quality Control Implementation Plan” and all revisions submitted by Oklahoma that were federally approved prior to June 1, 2000.

* * * * *

3. A new § 52.1920 is added to read as follows:

§ 52.1920 Identification of plan.

(a) Purpose and scope. This section sets forth the applicable State Implementation Plan (SIP) for Oklahoma under section 110 of the Clean Air Act, 42 U.S.C. 7410, and 40 CFR part 51 to meet national ambient air quality standards.

(b) Incorporation by reference. (1) Material listed in paragraphs (c) and (d) of this section with an EPA approval date on or before June 1, 2000, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after June 1, 2000, will be incorporated by reference in the next update to the SIP compilation.

(2) EPA Region 6 certifies that the rules/regulations provided by EPA in the SIP compilation at the addresses in paragraph (b)(3) of this section are an exact duplicate of the officially promulgated State rules/regulations which have been approved as part of the State Implementation Plan as of June 1, 2000.

(3) Copies of the materials incorporated by reference may be inspected at the EPA Region 6 Office at 1445 Ross Avenue, Suite 700, Dallas, Texas, 75202-2733; the Office of Federal Register, 800 North Capitol Street, NW, Suite 700, Washington, DC.; or at the Air and Radiation Docket (6102A), Room M1500, U.S. Environmental Protection Agency, Ariel Rios Building, 1200 Pennsylvania Avenue, NW., Washington DC 20460.

(c) EPA approved regulations.

EPA Approved Oklahoma Regulations
State citation | Title/subject | State effective date | EPA approval date | Explanation
Oklahoma Air Pollution Control Regulations
Regulation 1.4. Air Resources Management Permits Required
1.4.1. General Permit Requirements
1.4.1(a) | Scope and Purpose | 05/19/1983 | 08/25/1983, 48 FR 38635 | Ref: 52.1960(c)(26)
1.4.1(b) | General Requirements | 06/04/1990 | 07/23/1991, 56 FR 33715 | Ref: 52.1960(c)(41)
1.4.1(c) | Necessity to Obtain Permit | 06/04/1990 | 07/23/1991, 56 FR 33715 | Ref: 52.1960(c)(41)
1.4.1(d) | Permit fees | 05/19/1983 | 08/25/1983, 48 FR 38635 | Ref: 52.1960(c)(26)
1.4.2. Construction Permit
1.4.2(a) | Standards Required | 06/04/1990 | 07/23/1991, 56 FR 33715 | Ref: 52.1960(c)(41)
1.4.2(b) | Stack Height Limitation | 06/11/1989 | 08/20/1990, 55 FR 33905 | Ref: 52.1960(c)(34)
1.4.2(c) | Permit Applications | 06/04/1990 | 07/23/1991, 56 FR 33715 | Ref: 52.1960(c)(41)
1.4.2(d) | Action on Applications | 05/19/1983 | 08/25/1983, 48 FR 38635 | Ref: 52.1960(c)(26)
1.4.2(e) | Public Review | 06/11/1989 | 08/20/1990, 55 FR 33905 | Ref: 52.1960(c)(34)
1.4.2(f) | Construction Permit Conditions | 05/19/1983 | 08/25/1983, 48 FR 38635 | Ref: 52.1960(c)(26)
1.4.2(g) | Cancellation of Authority to Construct or Modify | 02/06/1984 | 07/27/1984, 49 FR 30184 | Ref: 52.1960(c)(31)
1.4.2(h) | Relocation Permits | 11/14/1990 | 07/23/1991, 56 FR 33715 | Ref: 52.1960(c)(41)
1.4.3. Operating Permit
1.4.3(a) | Requirements | 05/19/1983 | 08/25/1983, 48 FR 38635 | Ref: 52.1960(c)(26)
1.4.3(b) | Permit Applications | 05/19/1983 | 08/25/1983, 48 FR 38635 | Ref: 52.1960(c)(26)
1.4.3(c) | Operating Permit Conditions | 05/19/1983 | 08/25/1983, 48 FR 38635 | Ref: 52.1960(c)(26)
1.4.4. Major Sources—Prevention of Significant Deterioration (PSD) Requirements for Attainment Areas
1.4.4(a) | Applicability | 05/19/1983 | 08/25/1983, 48 FR 38635 | Ref: 52.1960(c)(26)
1.4.4(b) | Definitions: Restricted Section 1.4.4 | 06/04/1990 | 07/23/1991, 56 FR 33715 | Ref: 52.1960(c)(41)
1.4.4(c) | Source Applicability Determination | 05/19/1983 | 08/25/1983, 48 FR 38635 | Ref: 52.1960(c)(26)
1.4.4(d) | Review, Applicability, and Exemptions | 06/04/1990 | 07/23/1991, 56 FR 33715 | Ref: 52.1960(c)(41)
1.4.4(e) | Control Technology | 05/19/1983 | 08/25/1983, 48 FR 38635 | Ref: 52.1960(c)(26)
1.4.4(f) | Air quality impact evaluation | 08/10/1987 | 11/08/1999, 64 FR 60683 | Ref: 52.1960(c)(49)
1.4.4(g) | Source Impacting Class I areas | 08/10/1987 | 11/08/1999, 64 FR 60683 | Ref: 52.1960(c)(49)
1.4.4(h) | Innovative Control Technology | ¹ 05/19/1983 | 08/25/1983, 48 FR 38635 | Ref: 52.1960(c)(26)
1.4.5. Major Sources—Nonattainment Areas
1.4.5(a) | Applicability | ¹ 05/19/1983 | 08/25/1983, 48 FR 38635 | Ref: 52.1960(c)(26)
1.4.5(b) | Definitions: Restricted to Section 1.4.5 | 06/11/1989 | 02/12/1991, 56 FR 05653 | Ref: 52.1960(c)(38)
1.4.5(c) | Source Applicability Determination | 06/11/1989 | 02/12/1991, 56 FR 05653 | Ref: 52.1960(c)(38)
1.4.5(d) | Exemptions | ¹ 05/19/1983 | 08/25/1983, 48 FR 38635 | Ref: 52.1960(c)(26)
1.4.5(e) | Requirements for Sources Located in Nonattainment Areas | ¹ 05/19/1983 | 08/25/1983, 48 FR 38635 | Ref: 52.1960(c)(26)
Regulation 3.8. Control of Emission of Hazardous Air Contaminants
3.8(a) | Purpose | 04/19/1982 | 08/15/1983, 48 FR 36819
3.8(b) | Definitions | 04/19/1982 | 08/15/1983, 48 FR 36819
3.8(c) | Emission Standards for Hazardous Air Contaminants | 04/19/1982 | 08/15/1983, 48 FR 36819
Oklahoma Administrative Code, Title 252. Department of Environmental Quality, Chapter 100 (OAC 252:100). Air Pollution Control (Oklahoma Air Pollution Control Rules)
Subchapter 1. General Provisions
252:100-1-1 | Purpose | 05/26/1994 | 11/03/1999, 64 FR 59629
252:100-1-2 | Statutory definitions | 05/26/1994 | 11/03/1999, 64 FR 59629
252:100-1-3 | Definitions | 05/26/1994 | 11/03/1999, 64 FR 59629
Subchapter 3. Air Quality Standards and Increments
252:100-3-1 | Purpose | 05/26/1994 | 11/03/1999, 64 FR 59629
252:100-3-2 | Primary standards | 05/26/1994 | 11/03/1999, 64 FR 59629
252:100-3-3 | Secondary standards | 05/26/1994 | 11/03/1999, 64 FR 59629
252:100-3-4 | Significant deterioration increments | 05/26/1994 | 11/03/1999, 64 FR 59629
Subchapter 5. Registration of Air Contaminant Sources
252:100-5-1 | Purpose | 05/26/1994 | 11/03/1999, 64 FR 59629
252:100-5-2 | Registration of potential sources of air contaminants | 05/26/1994 | 11/03/1999, 64 FR 59629
252:100-5-3 | Confidentiality of proprietary information | 05/26/1994 | 11/03/1999, 64 FR 59629
Subchapter 9. Excess Emission and Malfunction Reporting Requirements
252:100-9-1 | Purpose | 05/26/1994 | 11/03/1999, 64 FR 59629
252:100-9-2 | Definitions | 05/26/1994 | 11/03/1999, 64 FR 59629
252:100-9-3 | General requirements | 05/26/1994 | 11/03/1999, 64 FR 59629
252:100-9-4 | Maintenance procedures | 05/26/1994 | 11/03/1999, 64 FR 59629
252:100-9-5 | Malfunctions and releases | 05/26/1994 | 11/03/1999, 64 FR 59629
252:100-9-6 | Excesses resulting from engineering limitations | 05/26/1994 | 11/03/1999, 64 FR 59629
Subchapter 13. Prohibition of Open Burning
252:100-13-1 | Purpose | 05/26/1994 | 11/03/1999, 64 FR 59629
252:100-13-2 | Definitions | 05/26/1994 | 11/03/1999, 64 FR 59629
252:100-13-3 | Scope | 05/26/1994 | 11/03/1999, 64 FR 59629
252:100-13-4 | Effective date | 05/26/1994 | 11/03/1999, 64 FR 59629
252:100-13-5 | Open burning prohibited | 05/26/1994 | 11/03/1999, 64 FR 59629
252:100-13-6 | Salvage operations utilizing open burning prohibited | 05/26/1994 | 11/03/1999, 64 FR 59629
252:100-13-7 | Permissible open burning | 05/26/1994 | 11/03/1999, 64 FR 59629
Subchapter 15. Motor Vehicle Pollution Control Devices
252:100-15-1 | Purpose | 05/26/1994 | 11/03/1999, 64 FR 59629
252:100-15-2 | Definitions | 05/26/1994 | 11/03/1999, 64 FR 59629
252:100-15-3 | Scope | 05/26/1994 | 11/03/1999, 64 FR 59629
252:100-15-4 | Prohibitions | 05/26/1994 | 11/03/1999, 64 FR 59629
252:100-15-5 | Maintenance, repair, or testing | 05/26/1994 | 11/03/1999, 64 FR 59629
252:100-15-6 | Liquefied petroleum gas | 05/26/1994 | 11/03/1999, 64 FR 59629
Subchapter 17. Incinerators
252:100-17-1 | Purpose | 05/26/1994 | 11/03/1999, 64 FR 59629
252:100-17-2 | Effective date; applicability | 05/26/1994 | 11/03/1999, 64 FR 59629
252:100-17-3 | Prohibition on density of emissions | 05/26/1994 | 11/03/1999, 64 FR 59629
252:100-17-4 | Prohibition on pounds per hour of emissions | 05/26/1994 | 11/03/1999, 64 FR 59629
252:100-17-5 | Incinerator design requirements | 05/26/1994 | 11/03/1999, 64 FR 59629
252:100-17-6 | Allowable emission of particulates | 05/26/1994 | 11/03/1999, 64 FR 59629
Subchapter 19. Particulate Matter Emissions From Fuel-Burning Equipment
252:100-19-1 | Purpose | 05/26/1994 | 11/03/1999, 64 FR 59629
252:100-19-2 | Emission of particulate matter prohibited | 05/26/1994 | 11/03/1999 64 FR 59629
252:100-19-3 | Existing equipment | 05/26/1994 | 11/03/1999 64 FR 59629
252:100-19-4 | New equipment | 05/26/1994 | 11/03/1999 64 FR 59629
252:100-19-5 | Refuse burning prohibited | 05/26/1994 | 11/03/1999 64 FR 59629
252:100-19-6 | Allowable emission of particulate matter | 05/26/1994 | 11/03/1999 64 FR 59629
252:100-19-7 | Particulate matter emission limits | 05/26/1994 | 11/03/1999 64 FR 59629
Subchapter 23. Control of Emissions From Cotton Gins
252:100-23-1 | Purpose | 05/26/1994 | 11/03/1999 64 FR 59629
252:100-23-2 | Definitions | 05/26/1994 | 11/03/1999 64 FR 59629
252:100-23-3 | General provisions; applicability | 05/26/1994 | 11/03/1999 64 FR 59629
252:100-23-4 | Smoke, visible emissions, and particulates | 05/26/1994 | 11/03/1999 64 FR 59629
252:100-23-5 | Emission control equipment | 05/26/1994 | 11/03/1999 64 FR 59629
252:100-23-6 | Fugitive dust controls | 05/26/1994 | 11/03/1999 64 FR 59629
Subchapter 25. Smoke, Visible Emissions and Particulates
252:100-25-1 | Purpose | 05/26/1994 | 11/03/1999 64 FR 59629
252:100-25-2 | General prohibition | 05/26/1994 | 11/03/1999 64 FR 59629
252:100-25-3 | Smoke, visible emissions and particulates | 05/26/1994 | 11/03/1999 64 FR 59629
252:100-25-4 | Alternative for particulates | 05/26/1994 | 11/03/1999 64 FR 59629
Subchapter 27. Particulate Matter Emissions from Industrial and Other Processes and Operations
252:100-27-1 | Purpose | 05/26/1994 | 11/03/1999 64 FR 59629
252:100-27-2 | Process emission limitations | 05/26/1994 | 11/03/1999 64 FR 59629
252:100-27-3 | Exception to emission limits | 05/26/1994 | 11/03/1999 64 FR 59629
252:100-27-4 | Sampling and testing | 05/26/1994 | 11/03/1999 64 FR 59629
252:100-27-5 | Allowable rate of emission | 05/26/1994 | 11/03/1999 64 FR 59629
Subchapter 29. Control of Fugitive Dust
252:100-29-1 | Purpose | 05/26/1994 | 11/03/1999 64 FR 59629
252:100-29-2 | Prohibitions | 05/26/1994 | 11/03/1999 64 FR 59629
252:100-29-3 | Precautions required in maintenance or nonattainment areas | 05/26/1994 | 11/03/1999 64 FR 59629
252:100-29-4 | Exception for agricultural purposes | 05/26/1994 | 11/03/1999, 64 FR 59629
252:100-29-5 | Variance | 05/26/1994 | 11/03/1999, 64 FR 59629
Subchapter 31. Control of Emission of Sulfur Compounds
Part 1. General Provisions
252:100-31-1 | Purpose | 05/26/1994 | 11/03/1999, 64 FR 59629
252:100-31-2 | Definitions | 05/26/1994 | 11/03/1999, 64 FR 59629
252:100-31-3 | Performance testing | 05/26/1994 | 11/03/1999, 64 FR 59629
Part 3. Existing Equipment Standards
252:100-31-12 | Sulfur oxides | 05/26/1994 | 11/03/1999, 64 FR 59629
252:100-31-13 | Sulfuric acid mist | 05/26/1994 | 11/03/1999, 64 FR 59629
252:100-31-14 | Hydrogen sulfide | 05/26/1994 | 11/03/1999, 64 FR 59629
252:100-31-15 | Total reduced sulfur | 05/26/1994 | 11/03/1999, 64 FR 59629
Part 5. New Equipment Standards
252:100-31-25 | Sulfur oxides | 05/26/1994 | 11/03/1999, 64 FR 59629
252:100-31-26. | Hydrogen sulfide | 05/26/1994 | 11/03/1999, 64 FR 59629
Subchapter 33. Control of Emission of Nitrogen Oxides
252:100-33-1 | Purpose | 05/26/1994 | 11/03/1999, 64 FR 59629
252:100-33-2 | Emission limits | 05/26/1994 | 11/03/1999, 64 FR 59629
252:100-33-3 | Performance testing | 05/26/1994 | 11/03/1999, 64 FR 59629
Subchapter 35. Control of Emission of Carbon Monoxide
252:100-35-1 | Purpose | 05/26/1994 | 11/03/1999, 64 FR 59629
252:100-35-2 | Emission limits | 05/26/1994 | 11/03/1999, 64 FR 59629
252:100-35-3 | Performance testing | 05/26/1994 | 11/03/1999, 64 FR 59629
Subchapter 37. Control of Emissions of Organic Materials
Part 1. General Provisions
252:100-37-1 | Purpose | 05/26/1994 | 11/03/1999, 64 FR 59629
252:100-37-2 | Definitions | 05/26/1994 | 11/03/1999, 64 FR 59629
252:100-37-3 | Applicability and compliance | 05/26/1994 | 11/03/1999, 64 FR 59629
252:100-37-4 | Exemptions | 05/26/1994 | 11/03/1999, 64 FR 59629
Part 3. Control of Volatile Organic Compounds
252:100-37-15 | Storage of volatile organic compounds | 05/26/1994 | 11/03/1999, 64 FR 59629
252:100-37-16 | Loading of volatile organic compounds | 05/26/1994 | 11/03/1999, 64 FR 59629
252:100-37-17 | Effluent water separators | 05/26/1994 | 11/03/1999, 64 FR 59629
252:100-37-18 | Pumps and compressors | 05/26/1994 | 11/03/1999, 64 FR 59629
252:100-37-36 | Fuel-burning and refuse-burning equipment | 05/26/1994 | 11/03/1999; 64 FR 59629
Subchapter 39. Control of Emission of Organic Materials in Nonattainment Areas
Part 1. General Provisions
252:100-39-1 | Purpose | 05/26/1994 | 11/03/1999; 64 FR 59629
252:100-39-2 | Definitions | 05/26/1994 | 11/03/1999; 64 FR 59629
252:100-39-3 | General applicability | 05/26/1994 | 11/03/1999; 64 FR 59629
Part 3. Petroleum Refinery Operations
252:100-39-15 | Petroleum refinery equipment leaks | 05/26/1994 | 11/03/1999; 64 FR 59629
252:100-39-16 | Refinery process unit turnaround | 05/26/1994 | 11/03/1999; 64 FR 59629
252:100-39-17 | Refinery vacuum producing system | 05/26/1994 | 11/03/1999; 64 FR 59629
252:100-39-18 | Refinery effluent water separators | 05/26/1994 | 11/03/1999; 64 FR 59629
Part 5. Petroleum Processing and Storage
252:100-39-30 | Liquid storage in external floating roof tanks |  | 05/26/1994 | 11/03/1999; 64 FR 59629
Part 7. Specific Operations
252:100-39-40 | Cutback asphalt (paving) | 05/26/1994 | 11/03/1999; 64 FR 59629
252:100-39-41 | Vapor recovery systems | 05/26/1994 | 11/03/1999; 64 FR 59629
252:100-39-42 | Metal cleaning | 05/26/1994 | 11/03/1999; 64 FR 59629
252:100-39-43 | Graphic arts systems | 05/26/1994 | 11/03/1999; 64 FR 59629
252:100-39-44 | Manufacture of pneumatic rubber tires | 05/26/1994 | 11/03/1999; 64 FR 59629
252:100-39-45 | Petroleum (solvent) dry cleaning | 05/26/1994 | 11/03/1999; 64 FR 59629
252:100-39-46 | Coating of parts and products | 05/26/1994 | 11/03/1999; 64 FR 59629
252:100-39-47 | Control of VOS emissions from aerospace industries coatings operations | 05/26/1994 | 11/03/1999; 64 FR 59629
252:100-39-48 | Vapor recovery systems | 05/26/1994 | 11/03/1999; 64 FR 59629
252:100-39-49 | Manufacturing of fiberglass reinforced plastic products | 05/26/1994 | 11/03/1999, 64 FR 59629
Subchapter 43. Sampling and Testing Methods
Part 1. General Provisions
252:100-43-1 | Purpose | 05/26/1994 | 11/03/1999, 64 FR 59629
252:100-43-2 | Test procedures | 05/26/1994 | 11/03/1999, 64 FR 59629
252:100-43-3 | Conduct of tests | 05/26/1994 | 11/03/1999, 64 FR 59629
Part 3. Specific Methods
252:100-43-15 | Gasoline vapor leak detection procedure by combustible gas detector | 05/26/1994 | 11/03/1999, 64 FR 59629
Subchapter 45. Monitoring of Emissions
252:100-45-1 | Purpose | 05/26/1994 | 11/03/1999, 64 FR 59629
252:100-45-2 | Monitoring equipment required | 05/26/1994 | 11/03/1999, 64 FR 59629
252:100-45-3 | Records required | 05/26/1994 | 11/03/1999, 64 FR 59629
Appendices
Appendix A | Allowable Emissions for Incinerators with Capacities in Excess of 100 lbs/hr | 05/26/1994 | 11/03/1999, 64 FR 59629
Appendix B | Allowable Emissions for Incinerators with Capacities less than 100 lbs/hr | 05/26/1994 | 11/03/1999, 64 FR 59629
Appendix C | Particulate Matter Emission Limits for Fuel-Burning Equipment | 05/26/1994 | 11/03/1999, 64 FR 59629
Appendix E | Primary Ambient Air Quality Standards | 05/26/1994 | 11/03/1999, 64 FR 59629
Appendix F | Secondary Ambient Air Quality Standards | 05/26/1994 | 11/03/1999, 64 FR 59629
Appendix G | Allowable Rate of Emissions | 05/26/1994 | 11/03/1999, 64 FR 59629
Oklahoma Administrative Code, Title 595. Department of Public Safety, Chapter 20 (OAC 595:20). Inspection and Equipment for Motor Vehicles
Subchapter 3. Emission and Mechanical Inspection of Vehicles
595:20-3-1 | General instructions | 05/26/1994 | 02/29/1996, 61 FR 7709 | Subsection (2) only.
595:20-3-3 | When emission anti-tampering inspection required where population less than 500,000 | 5/26/1994 | 02/29/1996, 61 FR 7709
595:20-3-5 | Emission inspection areas | 05/26/1994 | 02/29/1996, 61 FR 7709
595:20-3-6 | Documentation for every inspection | 05/26/1994 | 02/29/1996 61 FR 7709
595:20-3-12 | Inspection required each year | 05/26/1994 | 02/29/1996 61 FR 7709
595:20-3-25 | Motorcycle or motor-driven cycles (Class “B”) | 05/26/1994 | 02/29/1996 61 FR 7709
595:20-3-26 | Trailer and semitrailer trucks, (Class “C”) | 05/26/1994 | 02/29/1996 61 FR 7709
595:20-3-27 | School Buses (Class “D”) | 05/26/1994 | 02/29/1996 61 FR 7709
595:20-3-41 | Supervisory responsibility of inspection station owners and operators | 05/26/1994 | 02/29/1996 61 FR 7709 | Subsection (o) only.
595:20-3-42 | Responsibility for signs, forms, etc. | 05/26/1994 | 02/29/1996 61 FR 7709
595:20-3-46 | Security measures | 05/26/1994 | 02/29/1996 61 FR 7709 | Subsections (a) and (b) only.
595:20-3-61 | Refund of unused stickers | 05/26/1994 | 02/29/1996 61 FR 7709 | Subsections (a), (b), (e), and (f) only.
595:20-3-63 | Rejected vehicles | 05/26/1994 | 02/29/1996 61 FR 7709 | Subsections (b) and (g) only.
Subchapter 7. Inspection Stickers and Monthly Tab Inserts for Windshield and Trailer/Motorcycle
595:20-7-1 | General | 05/26/1994 | 02/29/1996 61 FR 7709 | Subsections (c) and (f) only.
595:20-7-2 | Inspection certificate | 05/26/1994 | 02/29/1996 61 FR 7709 | Subsection (a) only.
595:20-7-3 | Rejection receipt—Form VID 44 | 05/26/1994 | 02/29/1996 61 FR 7709
595:20-7-4 | Station monthly report—Form VID 21 | 05/26/1994 | 02/29/1996 61 FR 7709 | Subsection (a) only.
595:20-7-5 | Signature card—Form VID 17 | 05/26/1994 | 02/29/1996 61 FR 7709 | Subsection (a) only.
595:20-7-6 | Request for inspection stickers—Form VID 19 | 05/26/1994 | 02/29/1996 61 FR 7709 | Subsection (a) only.
595:20-7-7 | Request for refund—Form VID 25 | 05/26/1994 | 02/29/1996 61 FR 7709 | Subsection (a) only.
Subchapter 9. Class AE Inspection Station, Vehicle Emission Anti-Tampering Inspection
595:20-9-1 | General | 05/26/1994 | 02/29/1996 61 FR 7709 | Subsection (a) only.
595:20-9-3 | Vehicle emission inspection | 05/26/1994 | 02/29/1996 61 FR 7709 | Subsections (l) and (m) only.
595:20-9-7 | Catalytic Converter System (C.A.T.) | 05/26/1994 | 02/29/1996, 61 FR 7709
595:20-9-10 | Evaporative emission control system (E.N.P.) | 05/26/1994 | 02/29/1996, 61 FR 7709 | Subsections (a), (b), and (c) only.
595:20-9-11 | Air injection system (A.I.S. or A.I.R.) | 05/26/1994 | 02/29/1996, 61 FR 7709 | Subsection (a) only.
595:20-9-12 | Positive crankcase ventilation system (P.C.V. Valve) | 05/26/1994 | 02/29/1996, 61 FR 7709 | Subsection (a) only.
595:20-9-13 | Oxygen sensor | 05/26/1994 | 02/29/1996, 61 FR 7709 | Subsection (a) only.
595:20-9-14 | Thermostatic air intake system (T.A.C.) | 05/26/1994 | 02/29/1996, 61 FR 7709 | Subsections (a) and (b) only.
595:20-9-15 | Exhaust gas recirculation system (E.G.R.) | 05/26/1994 | 02/29/1996, 61 FR 7709 | Subsection (a) only.
Subchapter 11. Annual Motor Vehicle Inspection and Emission Anti-Tampering Inspection Records and Reports
595:20-11-1 | General | 05/26/1994 | 02/29/1996, 61 FR 7709
595:20-11-2 | Inspection certificate—VEC-1 | 05/26/1994 | 02/29/1996, 61 FR 7709 | Subsection (a) only.
595:20-11-3 | Rejection certificate—VIID-44 | 05/26/1994 | 02/29/1996, 61 FR 7709 | Subsection (a) only.
595:20-11-4 | Appeal procedure | 05/26/1994 | 02/29/1996, 61 FR 7709
¹ Submitted.

(d) EPA approved state source-specific requirements.

EPA Approved Oklahoma Source-Specific Requirements
Name of source | Permit No. | State submittal date | EPA approval date | Explanation
General Motors, Oklahoma City: Addendum I to Chapter 4, Emissions Offset Agreement for Permit Application |  | 03/28/1977 | 12/20/1977, 42 FR 63781 | Ref: 52.1960(c)(10).
McAlester Army Ammunition Plant McAlester, OK | Variance | 09/21/1979 | 05/26/1981, 46 FR 28159 | Ref: 52.1960(c)(21).
Mesa Petroleum Company | Variance | 02/06/1984 | 07/27/1984, 49 FR 30184 | Ref: 52.1960(c)(31).
Rockwell International, Tulsa | Alternate RACT | 03/09/1990 | 06/12/1990, 55 FR 23730 | Ref: 52.1960(c)(36).
McDonald Douglas, Tulsa | Alternate RACT | 03/09/1990 | 06/12/1990, 55 FR 23730 | Ref: 52.1960(c)(36).
American Airlines, Tulsa | Alternate RACT | 03/09/1990 | 06/12/1990, 55 FR 23730 | Ref: 52.1960(c)(36).
Nordam Lansing Street facility, Tulsa | Alternate RACT | 03/09/1990 | 06/12/1990, 55 FR 23730 | Ref: 52.1960(c)(36).
Conoco Refinery, Ponca City | 88-116-C | 11/07/1989 | 03/06/1992, 57 FR 08077 | Ref: 52.1960(c)(42).
Conoco Refinery, Ponca City | 88-117-O | 11/07/1989 | 03/06/1992, 57 FR 08077 | Ref: 52.1960(c)(42).

(e) EPA approved nonregulatory provisions and quasi-regulatory measures.

EPA Approved Oklahoma Nonregulatory Provisions
Name of SIP provision | Applicable geographic or nonattainment area | State submittal date | EPA approval date | Explanation
Chapter 1, Abstract | Statewide | 10/16/1972 | 05/14/1973, 38 FR 12696 | Ref: 52.1960(c)(6).
Chapter 2, Description of Regions | Statewide | 01/28/1972 | 05/31/1972, 37 FR 10842 | Ref: 52.1960(b).
Chapter 3, Legal Authority | Statewide | 10/16/1972 | 05/14/1973, 38 FR 12696 | Ref: 52.1960(c)(6).
Chapter 4, Control Strategy | Statewide | 10/16/1972 | 05/14/1973, 38 FR 12696 | Ref: 52.1960(c)(6).
A. Part D Requirements | Nonattainment areas | 04/02/1979 | 02/13/1980, 45 FR 09733 | Ref: 52.1960(c)(14).
B. Photochemical Oxidants (Ozone) | Statewide | 04/02/1979 | 02/13/1980, 45 FR 09733 | Ref: 52.1960(c)(14).
C. Carbon Monoxide | Statewide | 04/02/1979 | 02/13/1980, 45 FR 09733 | Ref: 52.1960(c)(14).
D. Total Suspended Particulates | Statewide | 04/02/1979 | 02/13/1980, 45 FR 09733 | Ref: 52.1960(c)(14).
E. Public notification | Statewide | 04/02/1979 | 05/14/1982, 47 FR 20771 | Ref: 52.1960(c)(17).
F. Lead SIP | Statewide | 03/05/1980 | 04/16/1982, 47 FR 16328 | Ref: 52.1960(c)(18).
G. PM10 SIP | Statewide | 08/22/1989 | 02/12/1991, 56 FR 05653 | Ref: 52.1960(c)(38).
H. Tulsa County Ozone Plan | Tulsa County | 02/20/1985 | 01/31/1991, 56 FR 03777 | Ref: 52.1960(c)(39).
I. Oklahoma County Carbon Monoxide Plan | Oklahoma County | 10/17/1985 | 08/08/1991, 56 FR 37651 | Ref: 52.1960(c)(40).
Chapter 5, Compliance Schedules | Statewide | 10/16/1972 | 05/14/1973, 38 FR 12696 | Ref: 52.1960(c)(6).
Chapter 6, Emergency Episode Control Plan | Statewide | 08/22/1989 | 02/12/1991, 56 FR 05653 | Ref: 52.1960(c)(38).
Chapter 7, Atmospheric Surveillance System | Statewide | 03/07/1980 | 08/06/1981, 46 FR 40005 | Ref: 52.1960(c)(22).
Chapter 8, Source Surveillance System | Statewide | 10/16/1972 | 05/14/1973, 38 FR 12696 | Ref: 52.1960(c)(6).
Chapter 9, Resources | Statewide | 04/02/1979 | 02/13/1980, 45 FR 09733 | Ref: 52.1960(c)(14).
Chapter 10, Intergovernmental Cooperation | Statewide | 04/02/1979 | 05/14/1982, 47 FR 20771 | Ref: 52.1960(c)(17).
Small Business Assistance Program | Statewide | 11/19/1992 | 06/23/1994, 59 FR 32365 | Ref: 52.1960(c)(45).
Oklahoma Vehicle Anti-Tampering Program | Statewide | 05/16/1994 | 02/29/1996, 61 FR 07709 | Ref: 52.1960(c)(46).
Oklahoma Visibility Protection Plan | Statewide | 06/08/1990 | 11/08/1999, 64 FR 60683 | Ref: 52.1960(c)(49).

EPA Approved Statutes in the Oklahoma SIP
State citation | Title/subject | State effective date | EPA approval date | Explanation
1992 Oklahoma Clean Air Act (63 O.S.A. 1992, Sections 1-1801 to 1-1819)
Section 1-1801 | Citation | 05/15/1992 | 06/23/1994, 59 FR 32365
Section 1-1802 | Purpose | 05/15/1992 | 06/23/1994, 59 FR 32365
Section 1-1803 | Municipal Regulations | 05/15/1992 | 06/23/1994, 59 FR 32365
Section 1-1804.1 | Definitions | 05/15/1992 | 06/23/1994, 59 FR 32365
Section 1-1805.1 | Administrative Agency Powers | 05/15/1992 | 06/23/1994, 59 FR 32365
Section 1-1806.1 | Adoption of Rules | 05/15/1992 | 06/23/1994, 59 FR 32365
Section 1-1807.1 | Air Quality Council | 05/15/1992 | 06/23/1994, 59 FR 32365
Section 1-1808.1 | Powers and Duties of the Air Quality Council | 05/15/1992 | 06/23/1994, 59 FR 32365
Section 1-1809 | Chief of Air Quality Council/Citizen Complaints | 05/15/1992 | 06/23/1994, 59 FR 32365
Section 1-1810 | Variances | 05/15/1992 | 06/23/1994, 59 FR 32365
Section 1-1811 | Compliance Orders | 05/15/1992 | 06/23/1994, 59 FR 32365
Section 1-1812 | Field Citation Program/Administrative Penalties | 05/15/1992 | 06/23/1994, 59 FR 32365
Section 1-1813 | Permitting Program | 05/15/1992 | 06/23/1994, 59 FR 32365
Section 1-1814 | Fees | 05/15/1992 | 06/23/1994, 59 FR 32365
Section 1-1815 | Emission Standards/Toxic Air Contaminant Emissions/Oil and Gas Emissions | 05/15/1992 | 06/23/1994, 59 FR 32365
Section 1-1816 | Small Business Assistance Program | 05/15/1992 | 06/23/1994, 59 FR 32365
Section 1-1817 | Criminal Penalties | 05/15/1992 | 06/23/1994, 59 FR 32365
Section 1-1818 | Civil Action | 05/15/1992 | 06/23/1994, 59 FR 32365
Section 1-1819 | Keeping Certain Rules and Enforcement Actions Effective | 05/15/1992 | 06/23/1994, 59 FR 32365
1992 Oklahoma Environmental Quality Act (27A O.S.A., Sections 1 to 12)
Section 1 | Citation | 06/12/1992 | 06/23/1994, 59 FR 32365
Section 2 | Purpose | 06/12/1992 | 06/23/1994, 59 FR 32365
Section 3 | Definitions | 06/12/1992 | 06/23/1994, 59 FR 32365
Section 4 | Transition | 06/12/1992 | 06/23/1994, 59 FR 32365
Section 5 | Pollution Control Coordinating Board and Department of Pollution Control | 06/12/1992 | 06/23/1994, 59 FR 32365
Section 6 | Jurisdictional Areas of Environmental Responsibility | 06/12/1992 | 06/23/1994, 59 FR 32365
Section 7 | Environmental Quality Board | 06/12/1992 | 06/23/1994, 59 FR 32365
Section 8 | Executive Director | 06/12/1992 | 06/23/1994, 59 FR 32365
Section 9 | Department of Environmental Quality | 06/12/1992 | 06/23/1994, 59 FR 32365
Section 10 | Advisory Councils | 06/12/1992 | 06/23/1994, 59 FR 32365
Section 11 | Time Periods for Certain Permits and Complaints | 06/12/1992 | 06/23/1994, 59 FR 32365
Section 12 | Resolution | 06/12/1992 | 06/23/1994, 59 FR 32365

[FR Doc. 00-19376 Filed 8-1-00; 8:45 am]

BILLING CODE 6560-50-U